DEPARTMENT OF HOMELAND SECURITY

Transportation Security Administration

Revision of Agency Information Collection Activity Under OMB Review: TSA Pre✓® Application Program

AGENCY: Transportation Security Administration, DHS.

ACTION: 30-Day notice.

SUMMARY: This notice announces that the Transportation Security Administration (TSA) has forwarded the Information Collection Request (ICR), Office of Management and Budget (OMB) control number 1652-0059, abstracted below to OMB for review and approval of a revision of the currently approved collection under the Paperwork Reduction Act (PRA). The ICR describes the nature of the information collection and its expected burden. TSA published a Federal Register notice, with a 60-day comment period soliciting comments, of the following collection of information on May 4, 2017. The collection involves the submission of biographic and biometric information by individuals seeking to enroll in the TSA Pre✓® Application Program, as well as an optional customer satisfaction survey.

DATES: Send your comments by December 1, 2017. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to:

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (EO) 13771, Reducing Regulation and Controlling Regulatory Costs, and EO 13777, Enforcing the Regulatory Reform Agenda, TSA is also requesting comments on the extent to which this request for information could be modified to reduce the burden on respondents.

Information Collection Requirement

Title: TSA Pre✓® Application Program.

Type of Request: Revision of currently approved collection.

OMB Control Number: 1652-0059.

Form(s): NA.

Affected Public: Air Travelers.

Abstract: The Transportation Security Administration (TSA) implemented the TSA Pre✓® Application Program pursuant to its authority under sec. 109(a)(3) of the Aviation and Transportation Security Act (ATSA), Public Law 107-71 (115 Stat. 597, 613, Nov. 19, 2001, codified at 49 U.S.C. 114 note), which authorizes TSA to establish registered traveler programs, as well as section 540 of the DHS Appropriations Act, 2006, Public Law 109-90 (119 Stat. 2064, 2088-89, Oct. 18, 2005), which requires TSA to collect a fee for any registered traveler program by publication of a notice in the Federal Register.

The TSA Pre✓® Application Program enhances aviation security by permitting TSA to better focus its limited security resources on passengers who are more likely to pose a threat to civil aviation, while also facilitating and improving the commercial aviation travel experience for the public. Travelers who choose not to enroll in this initiative are not subject to any limitations on their travel because of their choice; they will be processed through normal TSA screening before entering the sterile areas of airports. TSA also retains the authority to perform standard or other screening on a random basis on TSA Pre✓® Application Program participants and any other travelers authorized to receive expedited physical screening.

Under the TSA Pre✓® Application Program, individuals submit biographic (including, but not limited to, name, date of birth, gender, prior and current addresses, contact information, country of birth, images of identity documents, proof of citizenship/immigration status) and biometric (such as fingerprints, iris scans, or facial images) information to TSA's enrollment contractor. The enrollment contractor transmits this data via secure interface to TSA, which uses the information to conduct a security threat assessment (STA) based on checks of law enforcement, citizenship/immigration, regulatory violation, and intelligence databases, including a criminal history records check. TSA also uses the information submitted for identity verification during enrollment. The results are used by TSA to determine whether an individual poses a low risk to transportation or national security justifying eligibility for TSA Pre✓®.

TSA makes the final determination on eligibility for the TSA Pre✓® Application Program and notifies the applicant of the decision. On average, applicants receive notification from TSA within two to three weeks of the submission of their completed applications. Approved applicants are issued a Known Traveler Number (KTN) that is used for multiple purposes. Airline passengers who submit their KTN when making airline reservations may be eligible for expedited screening on flights originating from U.S. airports with TSA Pre✓® lanes.¹ TSA uses the traveler's KTN and other information during passenger pre-screening to verify that the individual traveling matches the information on TSA's list of known travelers and to confirm TSA Pre✓® expedited screening eligibility. TSA will also use the information collected, or verify the KTN and KTN-holder information, to determine a KTN holder's eligibility for other programs, such as potential eligibility for a reduced fee for another vetting program or participation in other DHS Trusted Traveler programs. TSA also will use the information submitted for identity verification at airport security checkpoints.

¹ Passengers who are eligible for expedited screening through a dedicated TSA Pre✓® lane typically will receive more limited physical screening, e.g., will be able to leave on their shoes, light outerwear, and belt, to keep their laptop in its case, and to keep their 3-1-1 compliant liquids/gels bag in a carry-on. For airports with TSA Pre✓® lanes, see https://www.tsa.gov/precheck/map.

Eligibility for the TSA Pre✓® Application Program is within the sole discretion of TSA, which provides written notification to applicants denied eligibility, including reasons for the denial. Applicants initially deemed ineligible have an opportunity to correct cases of misidentification or inaccurate criminal or citizenship/immigration records. For example, if advised during the application eligibility review process that the criminal record discloses a disqualifying criminal offense, the applicant has 60 days from the date of the denial letter to submit written notification of an intent to correct any information he or she believes to be inaccurate. The applicant must also provide a certified, revised record, or the appropriate court must forward a certified true copy of the information. TSA will review any information submitted and make a final decision. If neither notification nor a corrected record is received by TSA, the agency may make a final determination to deny eligibility. Individuals ineligible for the TSA Pre✓® Application Program are screened at airport security checkpoints pursuant to standard screening protocols.

TSA invites all TSA Pre✓® applicants to complete an optional survey to gather information on the applicants' overall customer satisfaction with the service received at the enrollment center. The optional survey is administered at the end of the enrollment service. TSA will use the information to determine whether any trends exist regarding customer service at a particular enrollment center, for potential customer utility and potential frequency of KTN usage for the overall program or particular application enrollment activity, and to take steps to improve service.

In June and July 2017, TSA launched a proof of concept initiative at Hartsfield-Jackson Atlanta International Airport and Denver International Airport to determine whether fingerprints from TSA Pre✓® Application Program applicants, who volunteered to participate in the proof of concept, could be used for identity verification at airport security checkpoints. TSA is using the operational throughput information from this proof of concept to determine how to implement optimally the use of biometrics collected during enrollment (fingerprints, iris, and/or facial image) for identity verification at airport checkpoints. TSA intends to continue to expand on the use of biometrics for identity verification at the time of travel.

TSA is seeking a revision to the currently approved request to allow for the collection of additional biometrics, particularly facial images but may include other biometrics such as iris, from TSA Pre✓® Application Program applicants. Currently, TSA collects fingerprints from these applicants, which are used for, among other things, criminal history records checks. The regular collection of biometrics, such as facial images, will provide TSA with the ability to use those biometrics for identity verification at TSA checkpoints, potentially eliminating the need to show identity documents and improving both security and the customer experience.

In addition, the TSA Pre✓® Application Program will begin accepting renewals in December 2018 for individuals whose five-year eligibility is expiring. To reduce applicant burden, TSA will allow most existing Program applicants to complete their renewal online rather than requiring the applicant to appear in person at an enrollment center. Certain individuals (e.g., applicants who have changed their name, applicants with low quality fingerprints, etc.) will receive notification during the online renewal process that they are required to conduct in-person re-enrollment, and other applicants may wish to renew their enrollment in-person. TSA will continue to store biographic and biometric data submitted during initial enrollment, as described above, plus any new data collected when individuals apply for renewal, and will utilize these data to conduct a new STA.

Average Annual Number of Respondents: An estimated 2,503,105 annualized respondent-enrollments over a three-year period.

Estimated Annual Burden Hours: An estimated 4,150,473 annualized hours based on a three-year projection.² This estimate includes the time for pre-enrollment, all aspects of enrollment (including a voluntary customer satisfaction survey), and correction of records if needed.

² TSA updated the annual estimates for the respondents and burden hours since the submission of the 60-day notice, which indicated respondents of 2,497,903 and burden hours of 4,717,413.

Estimated Cost Burden: A $231,537,857 annualized cost burden based on a three-year projection.³ The TSA fee per respondent for those who apply for the program directly with TSA will remain $85, which covers TSA's program costs and the FBI fee for the criminal history records check.

³ The cost burden in the 60-day Notice was incorrectly based on the hourly cost accounting for applicants' lost wages. The 30-day Notice corrects this to show the cost burden based instead on the application fee, post-enrollment biometric submission fee, and cost burden for corrections of record.

Dated: October 27, 2017.
Christina Walsh,
TSA Paperwork Reduction Act Officer, Office of Information Technology.

[FR Doc. 2017-23770 Filed 10-31-17; 8:45 am]

BILLING CODE 9110-05-P